DEPARTMENT OF ENERGY

Federal Energy Regulatory Commission

[Project No. 4784-106]

Topsham Hydro Partners Limited Partnership (L.P.); Notice of Settlement Agreement and Soliciting Comments

Take notice that the following settlement agreement has been filed with the Commission and is available for public inspection.

a. Type of Application: Settlement Agreement.

b. Project No.: 4784-106.

c. Date filed: February 18, 2022.

d. Applicant: Topsham Hydro Partners Limited Partnership (L.P.).

e. Name of Project: Pejepscot Hydroelectric Project.

f. Location: On the Androscoggin River in Sagadahoc, Cumberland, and Androscoggin Counties in the village of Pejepscot and the town of Topsham, Maine. The project does not affect federal lands.

g. Filed Pursuant to: Rule 602 of the Commission's Rules of Practice and Procedure, 18 CFR 385.602.

h. Applicant Contact: Mr. Tom Uncher, Vice President, Topsham Hydro Partners Limited Partnership, 339B Big Bay Rd., Queensbury, NY 12804, Telephone: 1-518-743-2018, Thomas.Uncher@brookfieldrenewable.com.

i. FERC Contact: Ryan Hansen, telephone (202) 502-8074, and email ryan.hansen@ferc.gov.

j. Deadline for filing comments: March 16, 2022. Reply comments due March 26, 2022.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4784-106.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Topsham Hydro Partners Limited Partnership (L.P.) (Topsham Hydro) filed a Settlement Agreement for Modified Prescription for Fishways executed by and between the licensee and the U.S. Department of Commerce's National Marine Fisheries Service. The purpose of the agreement is to resolve the parties' disagreements over the appropriate terms of a prescription for fishways for anadromous fish at the project under the new license. Topsham Hydro requests that the Commission consider the Settlement Agreement in its environmental analysis of the project relicensing, acknowledge the Offer of Settlement, and incorporate the terms of the agreement which will be reflected in the modified fishway prescription in the new license for the project. The Settlement Agreement provides for both interim and permanent downstream fish passage measures, based on the outcome of studies to be conducted by Topsham Hydro. The Settlement Agreement also includes several measures for upstream passage of anadromous fish; initial modifications to operations of the existing fish lift; effectiveness monitoring of the initial modifications for the target species; potential additional modifications to the existing fish lift in the event that defined performance standards cannot be met; and effectiveness monitoring of the modifications.

l. In addition to publishing the full text of this document in the Federal Register, the Commission provides all interested persons an opportunity to view and/or print the contents of this document via the internet through the Commission's website at http://www.ferc.gov using the “eLibrary” link. Enter the docket number excluding the last three digits in the docket number field to access the document (i.e., P-4784). At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

Dated: February 24, 2022.
Kimberly D. Bose,
Secretary.

[FR Doc. 2022-04556 Filed 3-3-22; 8:45 am]

BILLING CODE 6717-01-P